FEDERAL COMMUNICATIONS COMMISSION

Radio Broadcasting Services; AM or FM Proposals to Change the Community of License

AGENCY: Federal Communications Commission.

ACTION: Notice.

SUMMARY: The following applicants filed AM or FM proposals to change the community of license: DIVINE WORD COMMUNICATIONS, Station WDLG, Facility ID 86328, BPED-20120313AEE, From THOMASVILLE, AL, To GROVE HILL; FIFE COMMUNICATION COMPANY, L.C., Station KCVM, Facility ID 17227, BPH-20120327ALB, From HUDSON, IA, To EVANSDALE; HOG RADIO, INC., Station KLYR-FM, Facility ID 22057, BPH-20120208ADK, From CLARKSVILLE, AR, To COAL HILL; JACKSON COUNTY BROADCASTING, INC., Station WKOV-FM, Facility ID 29691, BPH-20120326ALC, From FRAZEYSBURG, OH, To OAK HILL; S AND H BROADCASTING L.L.C., Station KRSX-FM, Facility ID 2316, BPH-20120316ABT, From TWENTYNINE PALMS, CA, To NORTH SHORE; VERMONT BROADCAST ASSOCIATES, INC, Station NEW, Facility ID 189498, BNPH-20110630AEC, From ALBANY, VT, To IRASBURG.

DATES: The agency must receive comments on or before June 25, 2012.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2012-10131 Filed 4-25-12; 8:45 am]

BILLING CODE 6712-01-P